DEPARTMENT OF ENERGY

Federal Energy Regulatory Commission

[Docket No. CP00-6-000]

Gulfstream Natural Gas System, L.L.C.; Notice of Availability of the Final Environmental Impact Statement for the Proposed Gulfstream Pipeline Project

January 29, 2001.

The staff of the Federal Energy Regulatory Commission (FERC or Commission) has prepared a final environmental impact statement (FEIS) on natural gas pipeline facilities proposed by Gulfstream Natural Gas System, L.L.C. (Gulfstream) in the above-referenced docket. The application and other supplemental filings in this docket are available for viewing on the FERC Internet website (www.ferc.fed.us). Click on the “RIMS” link, select “Docket #” from the RIMS menu, and follow the instructions.

The FEIS was prepared to satisfy the requirements of the National Environmental Policy Act (NEPA). The staff concludes that approval of the Gulfstream Pipeline Project, with appropriate mitigating measures as recommended, would have limited adverse environmental impact. The FEIS evaluates alternatives to the proposal, including system alternatives, route alternatives, and route variations.

The FEIS assesses the potential environmental effects of the construction and operation of the proposed facilities in Mississippi, Alabama, and Florida, and State and Federal waters in the Gulf of Mexico. Gulfstream proposes to construct about 743 miles of various diameter pipeline, 128,000 horsepower (hp) of compression, 1 pressure regulating station, 22 meter stations, 4 manifold stations, 34 mainline valve sites, and 28 pig launchers or receivers.

The purpose of the Gulfstream Pipeline Project is to provide natural gas transportation service for up to 1.13 billion cubic feet per day (bcf/d) of natural gas from supply areas in Alabama and Mississippi to new and existing markets in Florida. The primary market is for natural gas-fueled electric generation plants. The plants are needed to meet the forecasted substantial increases in consumption driven by Florida's projected population growth over the next 10 to 20 years.

This FEIS has been placed in the public files of the FERC and is available for public inspection at: Federal Energy Regulatory Commission, Public Reference and Files Maintenance Branch, 888 First Street, NE., Washington, DC 20426, (202) 208-1371.

A limited number of copies are available from the Public Reference and Files Maintenance Branch identified above. In addition, the FEIS has been mailed to Federal, state, and local agencies; public interest groups, individuals, and affected landowners who requested a copy of the FEIS; libraries; newspapers; and parties to this proceeding. The document is also available for viewing on the FERC website at www.ferc.fed.us, using the “RIMS” link to information in this docket number. For assistance with access to RIMS, the RIMS helpline can be reached at (202) 208-2222.

Additional information about the proposed project is available from the Commission's Office of External Affairs, at (202) 208-1088 or on the FERC website described in the preceding paragraph. Access to the texts of formal documents issued by the Commission with regard to this docket, such as orders and notices, is also available on the FERC website using the “CIPS” link. For assistance with access to CIPS, the CIPS helpline can be reached at (202) 208-2474.

David P. Boergers,
Secretary.

[FR Doc. 01-2834 Filed 2-1-01; 8:45 am]

BILLING CODE 6717-01-M